DEPARTMENT OF ENERGY

Federal Energy Regulatory Commission

[Docket No. CP10-437-000]

Columbia Gulf Transmission Company; Notice of Filing

June 2, 2010.

Take notice that on May 20, 2010, Columbia Gulf Transmission Company (Columbia Gulf), 5151 San Felipe, Suite 2500, Houston, Texas 77056, filed an application, pursuant to section 7(c) of the Natural Gas Act (NGA), for a certificate of public convenience and necessity authorizing Columbia Gulf to construct and operate minor facilities required to isolate a portion of its existing transmission system to transport unprocessed gas (wet gas) near Centerville, Louisiana. The application is on file with the Commission and open for public inspection. This filing is available for review at the Commission in the Public Reference Room or may be viewed on the Commission's website at http://www.ferc.gov using the “eLibrary” link. Enter the docket number excluding the last three digits in the docket number field to access the document. For assistance, please contact FERC Online Support at FERCOnlineSupport@ferc.gov or toll free at (866) 208-3676, or for TTY, contact (202) 502-8659.

To minimize construction associated with transporting wet gas and there is current unsubscribed capacity in Columbia Gulf's Erath and East Lateral system, Columbia Gulf proposes modifications of these laterals to reserve capacity for receiving wet gas and delivering it to Neptune in Centerville, Louisiana. The construction consists of taps, regulating facilities, valves, launchers and receivers, and minor piping located in Columbia Gulf's existing rights-of-way. Columbia Gulf estimates the construction costs of the proposed facilities to be $4.2 million

Any questions regarding the application are to be directed to Frederic J. George, 1700 MacCorkle Ave., SE., P.O. Box 1273, Charleston, WV 25325-1273; phone number (304) 357-2359.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: June 23, 2010.

Kimberly D. Bose,
Secretary.

[FR Doc. 2010-14025 Filed 6-10-10; 8:45 am]

BILLING CODE 6717-01-P